DEPARTMENT OF COMMERCE

International Trade Administration

[A-552-802]

Certain Frozen Warmwater Shrimp From the Socialist Republic of Vietnam: Preliminary Results of Antidumping Duty Administrative Review and Preliminary Determination of No Shipments; 2016-2017

AGENCY: Enforcement and Compliance, International Trade Administration, Department of Commerce.

SUMMARY: The Department of Commerce (Commerce) preliminarily determines that certain frozen warmwater shrimp (shrimp) from the Socialist Republic of Vietnam (Vietnam) is being, or is likely to be, sold in the United States at less than normal value during the period of review (POR) February 1, 2016, through January 31, 2017.

DATES: Applicable March 12, 2018.

FOR FURTHER INFORMATION CONTACT: Irene Gorelik, AD/CVD Operations, Office VIII, Enforcement and Compliance, International Trade Administration, Department of Commerce, 1401 Constitution Avenue NW, Washington, DC 20230; telephone: (202) 482-6905.

SUPPLEMENTARY INFORMATION:

Background

Commerce exercised its discretion to toll deadlines affected by the closure of the Federal Government from January 20 through 22, 2018. If the new deadline falls on a non-business day, in accordance with Commerce's practice, the deadline will become the next business day. The revised deadline for the preliminary results of this review is now March 5, 2018.¹

¹ See Memorandum for the Record from Christian Marsh, Deputy Assistant Secretary for Enforcement and Compliance, performing the non-exclusive functions and duties of the Assistant Secretary for Enforcement and Compliance, “Deadlines Affected by the Shutdown of the Federal Government” (Tolling Memorandum), dated January 23, 2018. All deadlines in this segment of the proceeding have been extended by 3 days.

Scope of the Order

The merchandise subject to the Order is certain frozen warmwater shrimp. The product is currently classified under the following Harmonized Tariff Schedule of the United States (HTSUS) item numbers: 0306.17.00.03, 0306.17.00.06, 0306.17.00.09, 0306.17.00.12, 0306.17.00.15, 0306.17.00.18, 0306.17.00.21, 0306.17.00.24, 0306.17.00.27, 0306.17.00.40, 1605.21.10.30, and 1605.29.10.10. Although the HTSUS numbers are provided for convenience and for customs purposes, the written product description, available in the Preliminary Decision Memorandum, remains dispositive.²

² For a complete description of the Scope of the Order, see Memorandum to Gary Taverman, Deputy Assistant Secretary for Enforcement and Compliance, from James Maeder, Senior Director for Antidumping and Countervailing Duty Operations, titled “Decision Memorandum for Preliminary Results of Antidumping Duty Administrative Review: Certain Frozen Warmwater Shrimp from the Socialist Republic of Vietnam; 2016-2017,” dated concurrently with, and adopted by, this notice (Preliminary Decision Memorandum).

Methodology

Commerce conducted this review in accordance with section 751(a)(1)(A) of the Tariff Act of 1930, as amended (the Act). Export prices were calculated in accordance with section 772 of the Act. Because Vietnam is a non-market economy within the meaning of section 771(18) of the Act, NV was calculated in accordance with section 773(c) of the Act.

For a full description of the methodology underlying our conclusions, see Preliminary Decision Memorandum. The Preliminary Decision Memorandum is a public document and is on file electronically via the Enforcement and Compliance's Antidumping and Countervailing Duty Centralized Electronic Service System (ACCESS). ACCESS is available to registered users at http://access.trade.gov and in the Central Records Unit, Room B8024 of the main Department of Commerce building. In addition, a complete version of the Preliminary Decision Memorandum can be accessed directly on the internet at http://enforcement.trade.gov/frn/. The signed Preliminary Decision Memorandum and the electronic version of the Preliminary Decision Memorandum are identical in content.

Preliminary Determination of No Shipments

Based on our analysis of U.S. Customs and Border Protection (CBP) information and information provided by a number of companies, we preliminarily determine that 11 companies ³ under active review did not have any reviewable transactions during the POR. In addition, Commerce finds, consistent with its refinement to its assessment practice in non-market economy cases, that it is appropriate not to rescind the review in part in these circumstances, but to complete the review with respect to these 11 companies and issue appropriate instructions to CBP based on the final results of the review.⁴ For additional information regarding this determination, see the Preliminary Decision Memorandum.

³ These 11 companies are: (1) Au Vung One Seafood Processing Import & Export Joint Stock Company; (2) Bien Dong Seafood Co., Ltd.; (3) BIM Seafood Joint Stock Company; (4) Cafatex Corporation and its claimed aka names (a) Taydo Seafood Enterprise and (b) Xi Nghiep Che Bien Thuy Sue San Xuat Cantho; (5) Cam Ranh Seafoods; (6) Ngo Bros, also initiated as, Ngo Bros Seaproducts Import-Export One Member Company Limited, and NGO BROS Seaproducts Import- Export One Member Company Limited; (7) Quang Minh Seafood Co., Ltd., also initiated as Quang Minh Seafood Co LTD; (8) Tacvan Frozen Seafood Processing Export Company, also initiated as Tacvan Seafoods Company, Tacvan Seafoods Company (“TACVAN”), and Tacvan Seafoods Company (TACVAN); (9) Thong Thuan Seafood Company Limited; (10) Trong Nhan Seafood Company Limited, also initiated as Trong Nhan Seafood Co., Ltd. (“Trong Nhan”); and (11) Vinh Hoan Corp.

⁴ See Non-Market Economy Antidumping Proceedings: Assessment of Antidumping Duties, 76 FR 65694 (October 24, 2011) (Assessment Notice); see also “Assessment Rates” section below.

Preliminary Results of Review

Commerce finds that 30 companies for which a review was requested have not established eligibility for a separate rate and are considered to be part of the Vietnam-wide entity for these preliminary results.⁵ Commerce's change in policy regarding conditional review of the Vietnam-wide entity applies to this administrative review.⁶ Under this policy, the Vietnam-wide entity will not be under review unless a party specifically requests, or Commerce self-initiates, a review of the entity. Because no party requested a review of the Vietnam-wide entity, the entity is not under review and the entity's rate is not subject to change. For companies for which a review was requested and that have established eligibility for a separate rate, Commerce preliminarily determines that the following weighted-average dumping margins exist:

⁵ See Appendix II for a full list of the 30 companies (accounting for duplicate names initiated upon); see also Preliminary Decision Memorandum, at 13.

⁶ See Antidumping Proceedings: Announcement of Change in Department Practice for Respondent Selection in Antidumping Duty Proceedings and Conditional Review of the Nonmarket Economy Entity in NME Antidumping Duty Proceedings, 78 FR 65963 (November 4, 2013).

Exporter 7 | Weighted- average margin (percent)
Fimex VN | 25.39
Au Vung Two Seafood Processing Import & Export Joint Stock Company, aka AU VUNG TWO SEAFOOD | 25.39
Bac Lieu Fisheries Joint Stock Company | 25.39
Bentre Forestry and Aquaproduct Import-Export Joint Stock Company, aka FAQUIMEX, aka Bentre Forestry and Aquaproduct Import-Export Joint Stock Company (FAQUIMEX) | 25.39
C.P. Vietnam Corporation | 25.39
Cadovimex Seafood Import-Export and Processing Joint Stock Company | 25.39
Camau Frozen Seafood Processing Import Export Corporation, aka Camimex | 25.39
Camau Seafood Processing and Service Joint Stock Corporation, aka Camau Seafood Processing and Service Joint-Stock Corporation, aka CASES | 25.39
Can Tho Import Export Fishery Limited Company, aka CAFISH | 25.39
Cuulong Seaproducts Company, aka Cuulong Seapro | 25.39
Fine Foods Co, aka Fine Foods Co (FFC) | 25.39
Green Farms Seafood Joint Stock Company | 25.39
Hai Viet Corporation, aka HAVICO | 25.39
Investment Commerce Fisheries Corporation | 25.39
Khanh Sung Company, Ltd | 25.39
Kim Anh Company Limited | 25.39
Minh Hai Export Frozen Seafood Processing Joint-Stock Company, aka Minh Hai Jostoco | 25.39
Sea Minh Hai, aka Seaprodex Minh Hai | 25.39
Ngoc Tri Seafood Joint Stock Company | 25.39
Nha Trang Seaproduct Company, aka NT Seafoods Corporation, aka Nha Trang Seafoods—F89 Joint Stock Company, aka NTSF Seafoods Joint Stock Company | 25.39
Phuong Nam Foodstuff Corp. | 25.39
Seaprimexco Vietnam, aka Seaprimexco | 25.39
Taika Seafood Corporation | 25.39
Tan Phong Phu Seafood Co., Ltd | 25.39
Thanh Doan Sea Products Import & Export Processing Joint-Stock Company, aka THADIMEXCO | 25.39
Thong Thuan—Cam Ranh Seafood Joint Stock Company | 25.39
Thong Thuan Company Limited | 25.39
Thuan Phuoc Seafoods and Trading Corporation | 25.39
Trung Son Seafood Processing Joint Stock Company, aka Trung Son Seafood Processing JSC | 25.39
UTXI Aquatic Products Processing Corporation | 25.39
Viet Foods Co., Ltd | 25.39
Vietnam Fish One Co., Ltd | 25.39
Vietnam Clean Seafood Corporation, aka Vina Cleanfood, aka Viet Nam Clean Seafood Corporation | 25.39

Disclosure and Public Comment

Commerce will disclose the calculations used in our analysis to parties in this review within five days of the date of publication of this notice. Commerce intends to verify the information upon which we will rely for the final results. As such, Commerce will establish the briefing schedule at a later time, and will notify parties of the schedule in accordance with 19 CFR 351.309. Parties who submit case briefs or rebuttal briefs are requested to submit with the argument: (1) A statement of the issue; (2) a brief summary of the argument; and (3) a table of authorities.⁸ Rebuttal briefs must be limited to issues raised in the case briefs.⁹

⁷ Due to the issues Commerce had had in previous segments with variations of exporter names related to this Order, we remind exporters that the names listed in the rate box are the exact names, including spelling and punctuation which Commerce will provide to CBP and which CBP will use to assess POR entries and collect cash deposits. Any names with punctuation variations, such as all capitalizations, dashes, periods, or commas can be confirmed by Commerce in the event CBP inquires about such variations.

⁸ See 19 CFR 351.309(c) and (d).

⁹ See 19 CFR 351.309(d)(2).

Pursuant to 19 CFR 351.310(c), interested parties who wish to request a hearing must submit a written request to the Assistant Secretary for Enforcement and Compliance within 30 days of the date of publication of this notice. Requests should contain: (1) The party's name, address and telephone number; (2) the number of participants; and (3) a list of issues parties intend to discuss. Issues raised in the hearing will be limited to those raised in the respective case and rebuttal briefs. If a request for a hearing is made, Commerce intends to hold the hearing at the U.S. Department of Commerce, 1401 Constitution Avenue NW, Washington, DC 20230, at a date and time to be determined.¹⁰ Parties should confirm by telephone the date, time, and location of the hearing two days before the scheduled date.

¹⁰ See 19 CFR 351.310(d).

Commerce intends to issue the final results of this administrative review, including the results of our analysis of issues raised in the written comments, within 120 days of publication of these preliminary results in the Federal Register, unless this deadline extended.

Assessment Rates

Upon issuance of the final results, Commerce will determine, and CBP shall assess, antidumping duties on all appropriate entries covered by this review.¹¹ Commerce intends to issue assessment instructions to CBP 15 days after the publication date of the final results of this review. For any individually examined respondent whose weighted-average dumping margin is above de minimis (i.e., is 0.50 percent or more) in the final results of this review, Commerce will calculate importer-specific assessment rates on the basis of the ratio of the total amount of dumping calculated for the importer's examined sales to the total entered value of sales, in accordance with 19 CFR 351.212(b)(1).¹² We will instruct CBP to assess antidumping duties on all appropriate entries covered by this review when the importer-specific assessment rate calculated in the final results of this review is above de minimis. Where either the respondent's weighted-average dumping margin is zero or de minimis, or an importer-specific assessment rate is zero or de minimis, we will instruct CBP to liquidate the appropriate entries without regard to antidumping duties.

¹¹ See 19 CFR 351.212(b).

¹² In these preliminary results, Commerce applied the assessment rate calculation method adopted in Antidumping Proceedings: Calculation of the Weighted-Average Dumping Margin and Assessment Rate in Certain Antidumping Proceedings; Final Modification, 77 FR 8101 (February 14, 2012).

For the respondents that were not selected for individual examination in this administrative review but qualified for a separate rate, the assessment rate will be equal to the weighted-average dumping margin assigned to Fimex VN in the final results of this review.¹³

¹³ See Drawn Stainless Steel Sinks from the People's Republic of China: Preliminary Results of the Antidumping Duty Administrative Review and Preliminary Determination of No Shipments: 2014-2015, 81 FR 29528 (May 12, 2016), and accompanying Preliminary Decision Memorandum at 10-11; unchanged in Drawn Stainless Steel Sinks from the People's Republic of China: Final Results of Antidumping Duty Administrative Review; Final Determination of No Shipments; 2014-2015, 81 FR 54042 (August 15, 2016).

For entries that were not reported in the U.S. sales database submitted by Fimex VN during this review, Commerce will instruct CBP to liquidate such entries at the Vietnam-wide rate. In addition, if we continue to find no shipments for the companies identified in the “Preliminary Determination of No Shipments” section above, Commerce will instruct CBP to liquidate any suspended entries of subject merchandise from those companies at the Vietnam-wide rate.¹⁴

¹⁴ For a full discussion of this practice, see NME AD Assessment.

For the final results, if we continue to treat the 30 companies identified in Appendix II as part of the Vietnam-wide entity, we will instruct CBP to apply an ad valorem assessment rate of 25.76 percent to all entries of subject merchandise during the POR which were produced and/or exported by those companies.

The final results of this review shall be the basis for the assessment of antidumping duties on entries of merchandise covered by the final results of this review and for future deposits of estimated duties, where applicable.

Cash Deposit Requirements

The following cash deposit requirements will be effective upon publication of the final results of this administrative review for shipments of the subject merchandise from Vietnam entered, or withdrawn from warehouse, for consumption on or after the publication date, as provided by sections 751(a)(2)(C) of the Act: (1) For the companies listed above, which have a separate rate, the cash deposit rate will be that established in the final results of this review (except, if the rate is zero or de minimis, then zero cash deposit will be required); (2) for previously investigated or reviewed Vietnam and non-Vietnam exporters not listed above that received a separate rate in a prior segment of this proceeding, the cash deposit rate will continue to be the existing exporter-specific rate; (3) for all Vietnam exporters of subject merchandise that have not been found to be entitled to a separate rate, the cash deposit rate will be the existing rate for the Vietnam-wide entity of 25.76 percent; and (4) for all non-Vietnam exporters of subject merchandise which have not received their own rate, the cash deposit rate will be the rate applicable to the Vietnam exporter that supplied that non-Vietnam exporter. These deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

This determination is issued and published in accordance with sections 751(a)(1) and 777(i)(1) of the Act and 19 CFR 351.221(b)(4).

Dated: March 5, 2018.
Gary Taverman,
Deputy Assistant Secretary for Antidumping and Countervailing Duty Operations, performing the non-exclusive functions and duties of the Assistant Secretary for Enforcement and Compliance.

Appendix I—List of Topics Discussed in the Preliminary Decision Memorandum

I. Summary

II. Background

III. Scope of the Order

IV. Discussion of the Methodology

A. Preliminary Determination of No Shipments

B. Non-Market Economy Country

1. Separate Rates

2. Vietnam-Wide Entity

C. Surrogate Country and Surrogate Values

1. Economic Comparability

2. Significant Producers of Comparable Merchandise

3. Data Availability

D. Date of Sale

E. Fair Value Comparisons

1. Determination of the Comparison Method

2. Results of the Differential Pricing Analysis

F. Export Price

G. Normal Value

H. Factor Valuation Methodology

V. Currency Conversion

VI. Conclusion

Appendix II—Companies Subject to Review Determined To Be Part of the Vietnam-Wide Entity

1. Amanda Seafood Co., Ltd.

2. Asia Food Stuffs Import Export Co., Ltd.

3. Binh Thuan Import—Export Joint Stock Company (THAIMEX)

4. B.O.P. Limited Co.

5. Coastal Fisheries Development Corporation (“COFIDEC”)

6. CJ Freshway (FIDES Food System Co., Ltd.)

7. Dong Hai Seafood Limited Company

8. Duc Cuong Seafood Trading Co., Ltd.

9. Frozen Seafoods Factory No. 32 (Tho Quang Seafood Processing and Export Company)

10. Gallant Dachan Seafood Co., Ltd.

11. Gallant Ocean (Vietnam) Co. Ltd., also initiated under Gallant Ocean (Viet Nam) Co., Ltd. (“Gallant Ocean Vietnam”)

12. Hanh An Trading Service Co., Ltd.

13. Hoang Phuong Seafood Factory

14. Huynh Huong Seafood Processing

15. JK Fish Co., Ltd.

16. Khai Minh Trading Investment Corporation

17. Long Toan Frozen Aquatic Products Joint Stock Company

18. Minh Cuong Seafood Import-Export Processing (“MC Seafood”)

19. Minh Phu Seafood Corporation (only as producer or exporter) ¹⁵

¹⁵ Minh Phu Seafood Corporation is part of the Vietnam-Wide entity only in the event that it is identified on U.S. entry documentation or commercial documents as either producer or exporter. In the event that Minh Phu Seafood Corporation is identified on U.S. entry documentation and commercial documents as both producer and exporter, its entries are not subject to the AD Order and should not be suspended. See Certain Frozen Warmwater Shrimp from the Socialist Republic of Vietnam: Notice of Implementation of Determination Under Section 129 of the Uruguay Round Agreements Act and Partial Revocation of the Antidumping Duty Order, 81 FR 47756, 47757 (Minh Phu Revocation) (July 22, 2016), where we stated that we “will instruct U.S. Customs and Border Protection (“CBP”) to liquidate, without regard to antidumping duties, entries of certain frozen warmwater shrimp, produced and exported by the Minh Phu Group.” Because Minh Phu Seafood Corporation is one of the trade names included in the Minh Phu Revocation, any entries of subject merchandise produced and exported by Minh Phu Seafood Corporation, or any other trade name combination of the companies within the group which was revoked from the AD Order, are not subject to the AD Order.

20. Nam Hai Foodstuff and Export Company Ltd

21. New Wind Seafood Co., Ltd.

22. Nha Trang Fisheries Joint Stock Company (“Nha Trang Fisco”), also initiated under Nha Trang Fisheries Joint Stock Company

23. Nhat Duc Co., Ltd.

24. Phu Cuong Jostoco Seafood Corporation

25. Quoc Ai Seafood Processing Import Export Co., Ltd.

26. Saigon Food Joint Stock Company

27. Tan Thanh Loi Frozen Food Co., Ltd.

28. Thinh Hung Co., Ltd.

29. Trang Khan Seafood Co., Ltd.

30. Xi Nghiep Che Bien Thuy Suc San Xuat Kau Cantho

[FR Doc. 2018-04901 Filed 3-9-18; 8:45 am]

BILLING CODE 3510-DS-P